DEPARTMENT OF TRANSPORTATION

Federal Aviation Administration

Notice of Intent of Waiver With Respect to Land; Evansville Regional Airport, Evansville, Indiana

AGENCY: Federal Aviation Administration (FAA), DOT.

ACTION: Notice.

SUMMARY: The FAA is considering a proposal to change approximately 0.135 acres of airport land from aeronautical use to non-aeronautical use and to authorize an easement be placed on airport property located at Evansville Regional Airport, Evansville, Indiana. The aforementioned land is not needed for aeronautical use. The land is located at the intersection of Oak Hill Road and William L. Brooks Drive and is currently vacant. The proposed use of the land is to accommodate right-of-way needed for Oak Hill Road improvements.

DATES: Comments must be received on or before November 24, 2023.

ADDRESSES: All requisite and supporting documentation will be made available for review by appointment at the FAA Chicago Airports District Office, Joe Wejman, Program Manager, 2300 East Devon Avenue, Des Plaines, Illinois, 60018. Telephone: (847) 294-7526/Fax: (847) 294-7046.

Written comments on the Sponsor's request may be submitted using any of the following methods:

• Federal eRulemaking Portal: Go to http://www.regulations.gov, and follow the instructions for sending your comments electronically.

• Mail: Joe Wejman, Program Manager, Federal Aviation Administration, Chicago Airports District Office, 2300 East Devon Avenue, Des Plaines, Illinois, 60018.

• Hand Delivery: Deliver to mail address above between 8 a.m. and 5 p.m. Monday through Friday, excluding Federal holidays.

• Fax: (847) 294-7046.

FOR FURTHER INFORMATION CONTACT: Joe Wejman, Program Manager, Federal Aviation Administration, Chicago Airports District Office, 2300 East Devon Avenue, Des Plaines, Illinois, 60018. Telephone: (847) 294-7526/FAX: (847) 294-7046.

SUPPLEMENTARY INFORMATION: In accordance with section 47107(h) of title 49, United States Code, this notice is required to be published in the Federal Register 30 days before modifying the land-use assurance that requires the property to be used for an aeronautical purpose.

The land is part of airport Parcel 80 that was acquired by the Airport Sponsor on October 31, 1961. The parcel was funded with Federal Aid to Airports Program (FAAP) grant C108. This is currently vacant land that is not needed for aeronautical purposes. The Airport Sponsor is proposing to change the land from aeronautical use to non-aeronautical use and grant a right-of-way easement to Vanderburgh County to accommodate Oak Hill Road improvements. The Airport Sponsor will receive fair market value for the proposed easement.

The disposition of proceeds from the lease of the airport property will be in accordance with FAA's Policy and Procedures Concerning the Use of Airport Revenue, published in the Federal Register on February 16, 1999 (64 FR 7696).

This notice announces that the FAA is considering the release of the subject airport property at the Evansville Regional Airport, Evansville, Indiana from its obligations to be maintained for aeronautical purposes. Approval does not constitute a commitment by the FAA to financially assist in the change in use of the subject airport property nor a determination of eligibility for grant-in-aid funding from the FAA.

Land Description

A part of Section 34, Township 5 South, Range 10 West, Vanderburgh County, Indiana, and being that part of the grantor's land lying within the right of way lines depicted on the attached Right of Way Parcel Plat, marked EXHIBIT “B”, described as follows: Commencing at the northeast corner of said section, designated as point “3084” on said plat; thence North 88 degrees 33 minutes 40 seconds West 30.00 feet along the north line of said section to the prolonged west boundary of Oak Hill Road; thence South 1 degree 28 minutes 20 seconds West 24.62 feet along said prolonged west boundary to the point where the west boundary of said Oak Hill Road meets the south boundary of William L. Brooks Drive and the point of beginning of this description: thence continuing South 1 degree 28 minutes 20 seconds West 111.38 feet along the boundary of said Oak Hill Road to the south line of the grantor's land; thence North 88 degrees 33 minutes 40 seconds West 42.73 feet along said south line; thence North 8 degree 48 minutes 32 seconds West 113.57 feel to the south boundary of said William L. Brooks Drive, designated as point “589” on said plat; thence South 88 degrees 12 minutes 45 seconds East 63.00 feet along the boundary of said William L. Brooks Drive to the point of beginning and containing 0.135 acres, more or less.

Issued in Des Plaines, Illinois, on October 20, 2023.
Debra L. Bartell,
Manager, Chicago Airports District Office, FAA, Great Lakes Region.

[FR Doc. 2023-23604 Filed 10-24-23; 8:45 am]

BILLING CODE 4910-13-P